DEPARTMENT OF THE INTERIOR

Bureau of Land Management

[LLES962000 L14400000 BJ0000 212]

Notice of Filing of Plats of Survey; Eastern States

AGENCY: Bureau of Land Management, Interior.

ACTION: Notice of official filing.

SUMMARY: The plats of surveys of the following described lands are scheduled to be officially filed 30 calendar days from the date of this publication in the Bureau of Land Management (BLM), Eastern States State Office, Falls Church, Virginia. The surveys, executed at the request of the BLM and National Park Service, are necessary for the management of these lands.

DATES: Unless there are protests of this action, the plats described in this notice will be filed on September 29, 2021.

ADDRESSES: You may submit written notices of protest to the State Director, BLM Eastern States, 5275 Leesburg Pike, Falls Church, VA 22041.

FOR FURTHER INFORMATION CONTACT: F. David Radford, Chief Cadastral Surveyor for Eastern States; (703) 558-7759; email; fradford@blm.gov. Persons who use a telecommunications device for the deaf (TDD) may call the Federal Relay Service (FRS) at 1-800-877-8339 to contact the above individual during normal business hours. The service is available 24 hours a day, 7 days a week, to leave a message or question with the above individual. You will receive a reply during normal business hours.

SUPPLEMENTARY INFORMATION: The plat incorporating the field notes of the dependent resurvey of a portion of the subdivisional lines, a portion of the adjusted record meanders, and the survey of the subdivision of section 9, Township 36 North, Range 19 West, Michigan Meridian, Michigan, was accepted September 30, 2020.

The plat incorporating the field notes of the dependent resurvey of Tract 10-104 of the Virgin Islands National Park, in the Estate of Annaberg, Maho Bay Quarter, on the Island of St. John, in the U.S. Virgin Islands, was accepted September 30, 2020.

The plat incorporating the field notes of the dependent resurvey of Tract 03-157 of the Virgin Islands National Park, in the Estate of Haulover, No. 5 East End Quarter, on the Island of St. John, in the U.S. Virgin Islands, was accepted September 30, 2020.

A person or party who wishes to protest a survey must file a written notice of protest within 30 calendar days from the date of this publication at the address listed in the ADDRESSES section of this notice. A notice of protest is considered filed on the date it is received by the State Director for Eastern States during regular business hours; if received after regular business hours, a notice of protest will be considered filed the next business day. Any notice of protest filed after the scheduled date of official filing will be untimely and will not be considered. A statement of reasons for the protest may be filed with the notice of protest and must be filed within 30 calendar days after the protest is filed. If a notice of protest against the survey is received prior to the date of official filing, the filing will be stayed pending consideration of the protest. A plat will not be officially filed until the next business day after all protests have been dismissed or otherwise resolved.

Before including your address, phone number, email address, or other personal identifying information in your notice of protest or statement of reasons, please be aware that your entire protest, including your personal identifying information may be made publicly available at any time. While you can ask us in your comment to withhold your personal identifying information from public review, we cannot guarantee that we will be able to do so.

A copy of the described plats will be placed in the open files, and available to the public, as a matter of information.

(Authority: 43 U.S.C. Chap. 3.)

F. David Radford,
Chief Cadastral Surveyor for Eastern States.

[FR Doc. 2021-18612 Filed 8-27-21; 8:45 am]

BILLING CODE 4310-GJ-P